DEPARTMENT OF THE INTERIOR

Bureau of Land Management

[LLCON05000.L16100000.DU0000; COC-80216]

Notice of Intent To Amend the White River Resource Management Plan and Prepare an Environmental Assessment; Notice of Realty Action: Proposed Sale of Public Lands in Rio Blanco County, CO

AGENCY: Bureau of Land Management, Interior.

ACTION: Notice of intent and notice of realty action.

SUMMARY: The Bureau of Land Management (BLM) is proposing to amend the 1997 White River Resource Management Plan (RMP) to allow for the disposal of 3.73 acres of public land to the Colorado Northwestern Community College (CNCC) at the appraised fair market value of $25,000.

DATES: Interested parties may submit written comments regarding the RMP amendment planning criteria and proposed land sale during the 45-day scoping and comment period initiated by publication of this notice in the Federal Register and ending on February 14, 2022. All timely comments will be considered during analysis of the RMP amendment and land sale proposal.

ADDRESSES: Send written comments to Monte Senor, Acting Field Manager, BLM, White River Field Office, 220 East Market Street, Meeker, CO 81641 or by email to blm_co_wrfo_sale@blm.gov.

Project information, documents, and associated maps will be available for review during associated public comment and review periods during business hours Monday through Friday at the White River Field Office, except during federally recognized holidays. Project information will also be available on the BLM's e-Planning website: https://go.usa.gov/x79BM.

FOR FURTHER INFORMATION CONTACT: Heather Sauls, Planning and Environmental Coordinator, BLM White River Field Office, telephone: 970-878-3855, or by email at hsauls@blm.gov. Persons who use a telecommunications device for the deaf (TDD) may call the Federal Relay Service (FRS) at 1 (800) 877-8339 during normal business hours. The FRS is available 24 hours a day, 7 days a week, to leave a message or question. You will receive a reply during normal business hours.

SUPPLEMENTARY INFORMATION: The direct sale would be subject to applicable provisions of Section 203 of the Federal Land Policy and Management Act of 1976, as amended (FLPMA), and BLM land-sale regulations. Publication of this notice in the Federal Register also segregates the subject lands from all appropriation under the public land laws, including the general mining laws, and from the mineral leasing and geothermal leasing laws, except the sales provisions of FLPMA. This notice initiates the public scoping process with a 45-day comment period for the RMP amendment and associated Environmental Assessment (EA) effort. The BLM invites the public to submit comments concerning the scope of analysis and identification of relevant information involving the proposed plan amendment identified in the planning criteria and disposal action.

The purpose and need of the proposed action is to resolve an inadvertent, unauthorized use on public lands for continued operations of an existing shooting range that has been in use for over 20 years. The CNCC shooting range was previously authorized in 1997, but the lease expired in 2006 and was never renewed. This action would allow continued use of the shooting range for training law enforcement officers while alleviating the BLM of any responsibility for oversight, management, and possible future remedial actions of any contamination at the site due to the use of lead ammunition. If this parcel is sold to CNCC, the BLM anticipates authorizing right-of-way grants for an existing access road and power line that serve the shooting range.

The CNCC shooting range is an outdoor range that is presently used by nearly every law enforcement agency in the area for training purposes. These agencies include the Rangely Police Department, Rio Blanco County Sheriff's Office, Colorado Parks and Wildlife, and the National Park Service's Dinosaur National Monument, all of which send their respective armed officers to the range to conduct firearms training. Additionally, CNCC's National Park Ranger Academy conducts 6 weeks of firearms training annually at the range as part of the Federal Law Enforcement Training Center's required curriculum for the basic training of seasonal law enforcement officers.

The RMP identifies parcels suitable for disposal, but the subject lands are not currently listed as available for disposal. The BLM will analyze the suitability for disposal of the 3.73 acres per the criteria listed in FLPMA Section 203(a). The proposed RMP amendment would allow for the lands to be sold if they are found suitable for disposal. The planning criteria identifying the issues and their analytical frameworks the BLM proposes to use to guide the effects analysis of the RMP amendment is provided for review on the BLM's ePlanning website: https://go.usa.gov/x79BM.

The BLM is considering a direct sale of the following described lands:

Sixth Principal Meridian, Colorado, T. 1 N., R. 102 W., sec. 12, lot 2.

The area aggregates 3.73 acres.

If issued, the patent will include the following terms, covenants, conditions, and reservations:

1. A reservation to the United States for all minerals;

2. A reservation to the United States for ditches and canals constructed by authority of the United States under the Act of August 30, 1890 (43 U.S.C. 945);

3. Valid existing rights of record; and

4. Additional terms and conditions that the authorized officer deems appropriate.

Segregation: The segregation will terminate automatically upon issuance of a patent or on December 29, 2023, whichever occurs first. The BLM is no longer accepting land-use applications affecting the subject public lands, except applications to amend previously filed right-of-way applications or existing authorizations to increase grant terms in accordance with 43 CFR 2807.15 and 43 CFR 2886.15.

Notification to Grazing Use Authorization Holders: This notice also initiates a 2-year notification to grazing-use authorization holders that the BLM is considering disposing of the subject lands and that such authorizations may be cancelled in accordance with 43 CFR 4110.4-2(b).

Additional opportunities to participate in this process: Interested parties will be notified when the Draft RMP amendment, EA, and unsigned Finding of No Significant Impact (FONSI) are ready for review and will be provided another 30-day comment period. Upon review of comments to the Draft RMP amendment, EA, and unsigned FONSI, a Proposed RMP amendment, EA, and signed FONSI will be completed. Interested parties will be notified again when the Proposed RMP amendment, EA, and signed FONSI are ready for review, which will initiate three separate external engagement opportunities. First, interested parties will be provided a 30-day protest period subject to 43 CFR 1610.5-2 on the proposed RMP amendment to the BLM Director. The BLM Director will review all protests and must render a decision on the protests to the land use planning decisions, which shall be the final decision for the Department of the Interior (43 CFR 1610.5-2(b)). Second, the notification will begin a separate, concurrent 60-day Governor's consistency review of the proposed RMP amendment (43 CFR 1610.3-2(e)). The BLM Colorado State Director will review any inconsistencies with State plans, policies, or programs raised by the Governor and accept or reject recommendations proposed to resolve the inconsistencies. Any rejection of the recommendations will initiate a further 30-day appeal period for the Governor on the BLM Colorado State Director's rejection of the recommendations. Third, the notification of the Proposed RMP amendment, EA, and signed FONSI will also begin a separate, concurrent 30-day protest period subject to MS2711.4(d) on the land-sale decision. The BLM Colorado State Director will review all protests and may sustain, vacate, or modify the RMP amendment and land sale, in whole or in part. In the absence of any protests, the BLM will develop the approved RMP amendment and Decision Record which will document the final determination of the Department of the Interior for the land sale.

In addition to publication in the Federal Register, the BLM will publish this notice in the Rio Blanco Herald Times newspaper once a week for 3 consecutive weeks. Any other subsequent notices related to the RMP amendment and land sale may also be published in the Rio Blanco Herald newspaper.

Before including your address, phone number, email address, or other personal identifying information in your comment, you should be aware that your entire comment, including your personal identifying information, may be made publicly available at any time. While you can ask us in your comment to withhold your personal identifying information from public review, we cannot guarantee that we will be able to do so.

(Authority: 43 CFR 2711.1-2, 43 CFR 1610.2)

Jamie E. Connell,
Colorado State Director.

[FR Doc. 2021-28257 Filed 12-28-21; 8:45 am]

BILLING CODE 4310-JB-P